DEPARTMENT OF ENERGY

Federal Energy Regulatory Commission

Combined Notice of Filings #2

November 3, 2009.

Take notice that the Commission received the following electric corporate filings:

Docket Numbers: EC10-8-000.

Applicants: American Electric Power Service Corporation

Description: American Electric Power Service Corp requests for disclaimer of jurisdiction or, in the alternative application for approvals Under Section 203 of the Federal Power Act.

Filed Date: 10/23/2009

Accession Number: 20091029-0016.

Comment Date: 5 p.m. Eastern Time on Friday, November 13, 2009.

Take notice that the Commission received the following electric rate filings:

Docket Numbers: ER96-780-025; ER00-3240-014; ER01-1633-011; ER03-1383-014.

Applicants: Alabama Power Company, Georgia Power Company, Southern Company Services, Inc., Mississippi Power Company, Gulf Power Company, Oleander Power Project, L.P., DeSoto County Generating Company, LLC, Southern Company—Florida LLC.

Description: Notice of Non-Material Change in Status and of Generation Site Acquisition of Southern Companies.

Filed Date: 10/30/2009.

Accession Number: 20091030-5095.

Comment Date: 5 p.m. Eastern Time on Friday, November 20, 2009.

Docket Numbers: ER99-3151-014; ER97-837-011; ER03-327-006; ER08-447-04; ER08-448-004.

Applicants: PSEG Energy Resources & Trade LLC, PSEG Fossil LLC, PSEG Nuclear LLC, PSEG Power Connecticut LLC, Public Service Electric and Gas Company.

Description: Order No. 697-C—Quarterly Generation Siting Report for the PSEG Companies.

Filed Date: 10/30/2009

Accession Number: 20091030-5098

Comment Date: 5 p.m. Eastern Time on Friday, November 20, 2009.

Docket Numbers: ER07-1356-012; ER07-1112-010; ER07-1113-010; ER03-1283-020; ER07-1116-009; ER07-1117-012; ER07-1358-011; ER07-1118-011; ER00-2885-026; ER01-2765-025; ER09-609-003; ER09-1141-005; ER05-1232-021; ER09-335-007; ER02-2102-025.

Applicants: BE Alabama LLC, BE Allegheny LLC, BE CA LLC, BE Ironwood LLC, BE KJ LLC, BE Louisiana LLC, BE Rayle LLC, Cedar Brakes I, L.L.C., Cedar Brakes II, L.L.C., Central Power & Lime LLC, J.P. Morgan Commodities Canada Corporation, J.P. Morgan Ventures Energy Corporation, Utility Contract Funding, L.L.C., Vineland Energy LLC.

Description: Notice of non-material change in status.

Filed Date: 09/29/2009.

Accession Number: 20090929-5055.

Comment Date: 5 p.m. Eastern Time on Tuesday, November 17, 2009.

Docket Numbers: ER07-1106-006; ER02-1884-010; ER07-751-001; ER08-1255-001; ER09-1488-001.

Applicants: ArcLight Energy Marketing, LLC, Oak Creek Wind Power, LLC, Waterside Power LLC, LEA Power Partners, LLC, Black Bear Hydro Partners, LLC.

Description: Notice of Change in Status of ArcLight Energy Marketing, LLC, et al.

Filed Date: 10/30/2009.

Accession Number: 20091030-5096.

Comment Date: 5 p.m. Eastern Time on Friday, November 20, 2009.

Docket Numbers: ER09-934-003.

Applicants: Bangor Hydro-Electric Company.

Description: Bangor Hydro-Electric Company submits filing to notify the Commission that, effective 11/1/09, it will be charging under Schedule 21-BHE revised transmission rates based on the corrected value.

Filed Date: 10/30/2009.

Accession Number: 20091102-0117.

Comment Date: 5 p.m. Eastern Time on Friday, November 20, 2009.

Docket Numbers: ER09-1050-001.

Applicants: Southwest Power Pool, Inc.

Description: Southwest Power Pool, Inc submits a filing to comply with Order No. 719-A.

Filed Date: 10/27/2009.

Accession Number: 20091028-0071.

Comment Date: 5 p.m. Eastern Time on Tuesday, November 10, 2009.

Docket Numbers: ER10-155-000.

Applicants: Northern States Power Company.

Description: Xcel Energy Services, Inc. submits a proposed Notice of Cancellation for 12 Construction Agreements and 1 Interconnection Study Agreement.

Filed Date: 10/30/2009.

Accession Number: 20091102-0186.

Comment Date: 5 p.m. Eastern Time on Friday, November 20, 2009.

Docket Numbers: ER10-156-000.

Applicants: Dynegy Oakland, LLC.

Description: Dynegy Oakland, LLC submits a revision to certain Reliability Must-Run Rate Schedules of its Reliability Must-Run Agreement with the California Independent System Operator Corporation.

Filed Date: 10/30/2009.

Accession Number: 20091102-0185.

Comment Date: 5 p.m. Eastern Time on Friday, November 20, 2009.

Docket Numbers: ER10-157-000.

Applicants: Entergy Services, Inc.

Description: Entergy Services, Inc submits Rate Schedules for service to East Texas Electric Cooperative Inc et al.

Filed Date: 10/30/2009.

Accession Number: 20091102-0183.

Comment Date: 5 p.m. Eastern Time on Friday, November 20, 2009.

Docket Numbers: ER10-158-000.

Applicants: Midwest Independent Transmission System Operator, Inc.

Description: Midwest Independent Transmission System Operator, Inc submits an executed Amended and Restated Agreement for Interconnection of Transmission Facilities among MidAmerican Energy Company et al.

Filed Date: 10/30/2009.

Accession Number: 20091102-0180.

Comment Date: 5 p.m. Eastern Time on Friday, November 20, 2009.

Docket Numbers: ER10-160-000.

Applicants: Southern California Edison Company.

Description: Southern California Edison Company submits revisions to its Transmission Owner Tariff, FERC Electric Tariff, Second Revised Volume No 6.

Filed Date: 10/30/2009.

Accession Number: 20091102-0176.

Comment Date: 5 p.m. Eastern Time on Friday, November 20, 2009.

Docket Numbers: ER10-161-000.

Applicants: New England Power Pool.

Description: New England Power Pool Participants Committee submits counterpart signature pages of the NEPOOL Agreement, dated 9/1/71 as amended executed etc.

Filed Date: 10/30/2009.

Accession Number: 20091102-0184.

Comment Date: 5 p.m. Eastern Time on Friday, November 20, 2009.

Docket Numbers: ER10-163-000; ER10-164-000; ER10-165-000.

Applicants: CalPeak Power—Border LLC; CalPeak Power—El Cajon, LLC.

Description: CalPeak Entities submits Notices and Termination of the Reliability Must-Run Service Agreement between each of the CalPeak Entities and the CAISO, Rate Schedule FERC 2 for each of the CalPeak Entities.

Filed Date: 10/30/2009.

Accession Number: 20091102-0116.

Comment Date: 5 p.m. Eastern Time on Friday, November 20, 2009.

Docket Numbers: ER10-166-000.

Applicants: Dynegy South Bay, LLC.

Description: Dynegy South Bay, LLC submits revisions to certain Reliability Must-Run Rate Schedules of its Must-Run Service Agreement with California Independent System Operator Corporations and amendments to the RMR Agreement.

Filed Date: 10/30/2009.

Accession Number: 20091102-0115.

Comment Date: 5 p.m. Eastern Time on Friday, November 20, 2009.

Docket Numbers: ER10-167-000.

Applicants: Gilroy Energy Center, LLC.

Description: Gilroy Energy Center, LLC submits annual revisions to certain Rate Schedules of its Reliability Must-Run Agreement with the California Independent System Operator Corporation, effective January 1, 2010.

Filed Date: 10/30/2009.

Accession Number: 20091102-0114.

Comment Date: 5 p.m. Eastern Time on Friday, November 20, 2009.

Docket Numbers: ER10-168-000.

Applicants: PJM Interconnection, L.L.C.

Description: PJM Interconnection, LLC submits revised tariff sheets of the PJM Open Access Transmission Tariff and the Amended and Restated Operating Agreement of PJM Interconnection, LLC.

Filed Date: 10/30/2009.

Accession Number: 20091102-0113.

Comment Date: 5 p.m. Eastern Time on Friday, November 20, 2009.

Docket Numbers: ER10-169-000.

Applicants: Avista Corporation.

Description: Avista Corporation submits proposed increase in rates for transmission services under Avista's open-access transmission tariff, FERC Electric Tariff, Fifth Revised Volume 8, to be effective 1/1/10.

Filed Date: 10/30/2009.

Accession Number: 20091102-0121.

Comment Date: 5 p.m. Eastern Time on Friday, November 20, 2009.

Docket Numbers: ER10-170-000.

Applicants: Tucson Electric Power Company.

Description: Tucson Electric Power Company submits amended and restated transmission line participation.

Filed Date: 10/30/2009.

Accession Number: 20091102-0118.

Comment Date: 5 p.m. Eastern Time on Friday, November 20, 2009.

Docket Numbers: ER10-172-000.

Applicants: Carolina Power & Light Company.

Description: Carolina Power and Light Company submits a correction to its cost-of-service formula rate for network integration service and point-to-point service taken under PEC's Open Access Transmission Tariff.

Filed Date: 10/30/2009.

Accession Number: 20091102-0112.

Comment Date: 5 p.m. Eastern Time on Friday, November 20, 2009.

Docket Numbers: ER10-173-000.

Applicants: Florida Power Corporation.

Description: Florida Power Corporation submits revisions to its cost-of-service formula rate for network integration service and point-to-point revisions to its cost-of-service formula rate for network integration service and point-to-point service etc.

Filed Date: 10/30/2009.

Accession Number: 20091102-0111.

Comment Date: 5 p.m. Eastern Time on Friday, November 20, 2009.

Docket Numbers: ER10-175-000.

Applicants: Westar Energy, Inc.

Description: Westar Energy, Inc submits executed Cost Based Agreement for Wholesale Power Sales Service from generating assets likely to participate with the City of Burlingame.

Filed Date: 10/30/2009.

Accession Number: 20091102-0173.

Comment Date: 5 p.m. Eastern Time on Friday, November 20, 2009.

Docket Numbers: ER10-176-000.

Applicants: California Power Exchange Corporation.

Description: California Power Exchange Corporation submits proposed amendments to its Rate Schedule No 1.

Filed Date: 10/30/2009.

Accession Number: 20091102-0172.

Comment Date: 5 p.m. Eastern Time on Friday, November 20, 2009.

Docket Numbers: ER10-177-000.

Applicants: Wisconsin Public Service Corporation.

Description: Wisconsin Public Service Corporation submits revised rate schedule sheet in Exhibit G to its Rate Schedule No 51 with the City of Marshfield.

Filed Date: 10/30/2009.

Accession Number: 20091102-0171.

Comment Date: 5 p.m. Eastern Time on Friday, November 20, 2009.

Docket Numbers: ER10-178-000.

Applicants: Wisconsin Public Service Corporation.

Description: Wisconsin Public Service Corporation submits revised service agreements between Manitowoc Public Utilities and Upper Peninsula Power Company.

Filed Date: 10/30/2009.

Accession Number: 20091102-0170.

Comment Date: 5 p.m. Eastern Time on Friday, November 20, 2009.

Docket Numbers: ER10-179-000.

Applicants: Mirant Potrero LLC.

Description: Mirant Potrero, LLC submits revisions to its Must Run Service Agreement with the California Independent System Operator Corporation.

Filed Date: 10/30/2009.

Accession Number: 20091102-0169.

Comment Date: 5 p.m. Eastern Time on Friday, November 20, 2009.

Docket Numbers: ER10-180-000.

Applicants: The United Illuminating Company.

Description: The Unlimited Illuminating Company submits Localized Costs Sharing Agreements.

Filed Date: 10/30/2009.

Accession Number: 20091102-0168.

Comment Date: 5 p.m. Eastern Time on Friday, November 20, 2009.

Docket Numbers: ER10-181-000.

Applicants: Southwest Power Pool, Inc.

Description: Southwest Power Pool, Inc submits Tenth Revised Sheet 163A et al. to FERC Electric Tariff, Fifth Revised Volume 1 to be effective 1/1/10.

Filed Date: 10/30/2009.

Accession Number: 20091102-0167.

Comment Date: 5 p.m. Eastern Time on Friday, November 20, 2009.

Docket Numbers: ER10-183-000.

Applicants: Otter Tail Power Company.

Description: Otter Tail Power Company submits revised tariff sheets with proposed revisions to the Midwest ISO' Open Access Transmission, Energy and Operating Reserve Markets Tariff, FERC Electric Fourth Revised Volume 1.

Filed Date: 10/30/2009.

Accession Number: 20091102-0175.

Comment Date: 5 p.m. Eastern Time on Friday, November 20, 2009.

Docket Numbers: ER10-184-000.

Applicants: Southwest Power Pool, Inc.

Description: Southwest Power Pool, Inc submits an executed Large Generator Interconnection Agreement with Flat Ridge Wind Energy, LLC as Interconnection Customer etc.

Filed Date: 10/30/2009.

Accession Number: 20091102-0174.

Comment Date: 5 p.m. Eastern Time on Friday, November 20, 2009.

Docket Numbers: ER10-185-000.

Applicants: Michigan Electric Transmission Co., LLC.

Description: Michigan Electric Transmission Company, LLC submits material in support of its request for authorization to use updated depreciation rates in the calculation of charges of transmission service.

Filed Date: 10/30/2009.

Accession Number: 20091102-0165.

Comment Date: 5 p.m. Eastern Time on Friday, November 20, 2009.

Docket Numbers: ER10-186-000.

Applicants: ISO New England Inc.

Description: ISO New England Inc submits Forward Capacity Auction Results filing which includes the testimony of Stephen J Rouke et al.

Filed Date: 10/30/2009.

Accession Number: 20091102-0162.

Comment Date: 5 p.m. Eastern Time on Friday, November 20, 2009.

Docket Numbers: ER10-187-000.

Applicants: Midwest Independent Transmission System Operator, Inc.

Description: Midwest Independent Transmission System Operator et al. submits Third Revised Sheet No 1853 et al. to FERC Electric Tariff, Fourth Revised Volume 1 to be effective 1/1/10.

Filed Date: 10/30/2009.

Accession Number: 20091102-0164.

Comment Date: 5 p.m. Eastern Time on Friday, November 20, 2009.

Docket Numbers: ER10-191-000.

Applicants: E.ON U.S. LLC.

Description: E.ON US, LLC et al. seeks approval to change Applicants method of complying with Order Nos. 888, 889 and 890 meeting certain conditions imposed by the Commission in the context of prior mergers etc.

Filed Date: 10/30/2009.

Accession Number: 20091103-0044.

Comment Date: 5 p.m. Eastern Time on Friday, November 20, 2009.

Take notice that the Commission received the following electric reliability filings:

Docket Numbers: RD10-2-000.

Applicants: Western Electricity Coordinating Council.

Description: Compliance Filing of the North American Electric Reliability Corporation in response to Order No. 723: VSLs for BAL-004-WECC-01 R2-R4 and request for an extension of time for the filing of the VSL for R1.

Filed Date: 10/23/2009.

Accession Number: 20091023-5064.

Comment Date: 5 p.m. Eastern Time on Friday, November 13, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-27298 Filed 11-10-09; 8:45 am]

BILLING CODE 6717-01-P